DEPARTMENT OF THE TREASURY

Office of Foreign Assets Control

Notice of OFAC Sanctions Actions

AGENCY: Office of Foreign Assets Control, Treasury.

ACTION: Notice.

SUMMARY: The Department of the Treasury's Office of Foreign Assets Control (OFAC) is publishing the names of one or more persons that have been placed on OFAC's Specially Designated Nationals and Blocked Persons List based on OFAC's determination that one or more applicable legal criteria were satisfied. All property and interests in property subject to U.S. jurisdiction of these persons are blocked, and U.S. persons are generally prohibited from engaging in transactions with them.

DATES: See Supplementary Information section for applicable date(s).

FOR FURTHER INFORMATION CONTACT: OFAC: Associate Director for Global Targeting, tel.: 202-622-2420; Assistant Director for Sanctions Compliance & Evaluation, tel.: 202-622-2490; Assistant Director for Licensing, tel.: 202-622-2480.

SUPPLEMENTARY INFORMATION:

Electronic Availability

The Specially Designated Nationals and Blocked Persons List and additional information concerning OFAC sanctions programs are available on OFAC's website (https://www.treasury.gov/ofac).

Notice of OFAC Actions

On September 17, 2020, OFAC determined that the property and interests in property subject to U.S. jurisdiction of the following persons are blocked under the relevant sanctions authorities listed below.

Individuals

1. ABEDSHAHI, Omid (a.k.a. SHAHI, Omid Abded Abed), Iran; DOB 21 Jan 1983; POB Mashhad, Iran; nationality Iran; Additional Sanctions Information—Subject to Secondary Sanctions; Gender Male; Passport B30739724 (Iran) (individual) [IRAN-HR] (Linked To: IRANIAN MINISTRY OF INTELLIGENCE AND SECURITY).

Designated pursuant to section 1(a)(ii)(B) of Executive Order 13553 of September 28, 2010, “Blocking Property of Certain Persons With Respect to Serious Human Rights Abuses by the Government of Iran and Taking Certain Other Actions,” 75 FR 60567, 3 CFR, 2010 Comp., p. 253 (E.O. 13553), for having materially assisted, sponsored, or provided financial, material, or technological support for, or goods or services to or in support of, the IRANIAN MINISTRY OF INTELLIGENCE AND SECURITY, a person whose property and interest in property is blocked pursuant to E.O. 13553.

2. ABOUTORABI, Seyed Hamid, Iran; DOB 17 Aug 1991; POB Azna, Iran; nationality Iran; Additional Sanctions Information—Subject to Secondary Sanctions; Gender Male (individual) [IRAN-HR] (Linked To: IRANIAN MINISTRY OF INTELLIGENCE AND SECURITY).

Designated pursuant to section 1(a)(ii)(B) of E.O. 13553 for having materially assisted, sponsored, or provided financial, material, or technological support for, or goods or services to or in support of, the IRANIAN MINISTRY OF INTELLIGENCE AND SECURITY, a person whose property and interest in property is blocked pursuant to E.O. 13553.

3. AKBARIANA, Omid, Iran; DOB 05 Jul 1994; POB Kashan, Iran; nationality Iran; Additional Sanctions Information—Subject to Secondary Sanctions; Gender Male (individual) [IRAN-HR] (Linked To: IRANIAN MINISTRY OF INTELLIGENCE AND SECURITY).

Designated pursuant to section 1(a)(ii)(B) of E.O. 13553 for having materially assisted, sponsored, or provided financial, material, or technological support for, or goods or services to or in support of, the IRANIAN MINISTRY OF INTELLIGENCE AND SECURITY, a person whose property and interest in property is blocked pursuant to E.O. 13553.

4. AZADKHANI, Amirhossein, Iran; DOB 23 Jan 1996; POB Shemiran, Iran; nationality Iran; Additional Sanctions Information—Subject to Secondary Sanctions; Gender Male; Passport Y33935483 (Iran) (individual) [IRAN-HR] (Linked To: IRANIAN MINISTRY OF INTELLIGENCE AND SECURITY).

Designated pursuant to section 1(a)(ii)(B) of E.O. 13553 for having materially assisted, sponsored, or provided financial, material, or technological support for, or goods or services to or in support of, the IRANIAN MINISTRY OF INTELLIGENCE AND SECURITY, a person whose property and interest in property is blocked pursuant to E.O. 13553.

5. AZIZABADI, Reza Mohammadi, Iran; DOB 11 Jul 1992; POB Karaj, Iran; nationality Iran; Additional Sanctions Information—Subject to Secondary Sanctions; Gender Male (individual) [IRAN-HR] (Linked To: IRANIAN MINISTRY OF INTELLIGENCE AND SECURITY).

Designated pursuant to section 1(a)(ii)(B) of E.O. 13553 for having materially assisted, sponsored, or provided financial, material, or technological support for, or goods or services to or in support of, the IRANIAN MINISTRY OF INTELLIGENCE AND SECURITY, a person whose property and interest in property is blocked pursuant to E.O. 13553.

6. BABAIE, Nematollah Hosein (a.k.a. BABAEI, Nemat Hossein), Iran; DOB 10 Apr 1990; POB Rasht, Iran; nationality Iran; Additional Sanctions Information—Subject to Secondary Sanctions; Gender Male (individual) [IRAN-HR] (Linked To: IRANIAN MINISTRY OF INTELLIGENCE AND SECURITY).

Designated pursuant to section 1(a)(ii)(B) of E.O. 13553 for having materially assisted, sponsored, or provided financial, material, or technological support for, or goods or services to or in support of, the IRANIAN MINISTRY OF INTELLIGENCE AND SECURITY, a person whose property and interest in property is blocked pursuant to E.O. 13553.

7. DAVOODI, Abolfazl Hossein Pour, Iran; DOB 15 Jul 1992; POB Amol, Iran; nationality Iran; Additional Sanctions Information—Subject to Secondary Sanctions; Gender Male (individual) [IRAN-HR] (Linked To: IRANIAN MINISTRY OF INTELLIGENCE AND SECURITY).

Designated pursuant to section 1(a)(ii)(B) of E.O. 13553 for having materially assisted, sponsored, or provided financial, material, or technological support for, or goods or services to or in support of, the IRANIAN MINISTRY OF INTELLIGENCE AND SECURITY, a person whose property and interest in property is blocked pursuant to E.O. 13553.

8. EMADODDIN, Alireza (a.k.a. EMADEDDIN, Alireza), Iran; DOB 22 Jan 1989; POB Semnan, Iran; nationality Iran; Additional Sanctions Information—Subject to Secondary Sanctions; Gender Male; Passport P21289307 (Iran) (individual) [IRAN-HR] (Linked To: IRANIAN MINISTRY OF INTELLIGENCE AND SECURITY).

Designated pursuant to section 1(a)(ii)(B) of E.O. 13553 for having materially assisted, sponsored, or provided financial, material, or technological support for, or goods or services to or in support of, the IRANIAN MINISTRY OF INTELLIGENCE AND SECURITY, a person whose property and interest in property is blocked pursuant to E.O. 13553.

9. FARASHAH, Payman Dehghanpour (a.k.a. POUR, Peyman Dehghan), Iran; DOB 22 Jan 1989; POB Yazd, Iran; nationality Iran; Additional Sanctions Information—Subject to Secondary Sanctions; Gender Male; Passport L40581001 (Iran) (individual) [IRAN-HR] (Linked To: IRANIAN MINISTRY OF INTELLIGENCE AND SECURITY).

Designated pursuant to section 1(a)(ii)(B) of E.O. 13553 for having materially assisted, sponsored, or provided financial, material, or technological support for, or goods or services to or in support of, the IRANIAN MINISTRY OF INTELLIGENCE AND SECURITY, a person whose property and interest in property is blocked pursuant to E.O. 13553.

10. GASHASBI, Mansoor, Iran; DOB 13 Jun 1991; POB Tehran, Iran; nationality Iran; Additional Sanctions Information—Subject to Secondary Sanctions; Gender Male; Passport J11580003 (Iran) (individual) [IRAN-HR] (Linked To: IRANIAN MINISTRY OF INTELLIGENCE AND SECURITY).

Designated pursuant to section 1(a)(ii)(B) of E.O. 13553 for having materially assisted, sponsored, or provided financial, material, or technological support for, or goods or services to or in support of, the IRANIAN MINISTRY OF INTELLIGENCE AND SECURITY, a person whose property and interest in property is blocked pursuant to E.O. 13553.

11. GHAFFARIANANBERAN, Seyedmohammad (a.k.a. GHAFARIAN, Seyed Mohammed), Iran; DOB 29 Jul 1987; POB Manchester, England; nationality Iran; Additional Sanctions Information—Subject to Secondary Sanctions; Gender Male; Passport B16035341 (Iran) (individual) [IRAN-HR] (Linked To: IRANIAN MINISTRY OF INTELLIGENCE AND SECURITY).

Designated pursuant to section 1(a)(ii)(B) of E.O. 13553 for having materially assisted, sponsored, or provided financial, material, or technological support for, or goods or services to or in support of, the IRANIAN MINISTRY OF INTELLIGENCE AND SECURITY, a person whose property and interest in property is blocked pursuant to E.O. 13553.

12. GHOLIZADEH, Hojjat, Iran; DOB 30 Jan 1980; POB Khoy, Iran; nationality Iran; Additional Sanctions Information—Subject to Secondary Sanctions; Gender Male; Passport M38523792 (Iran) (individual) [IRAN-HR] (Linked To: IRANIAN MINISTRY OF INTELLIGENCE AND SECURITY).

Designated pursuant to section 1(a)(ii)(B) of E.O. 13553 for having materially assisted, sponsored, or provided financial, material, or technological support for, or goods or services to or in support of, the IRANIAN MINISTRY OF INTELLIGENCE AND SECURITY, a person whose property and interest in property is blocked pursuant to E.O. 13553.

13. HAMIDI, Esmail, Iran; DOB 29 Jul 1968; POB Tonekabon, Iran; nationality Iran; Additional Sanctions Information—Subject to Secondary Sanctions; Gender Male (individual) [IRAN-HR] (Linked To: IRANIAN MINISTRY OF INTELLIGENCE AND SECURITY).

Designated pursuant to section 1(a)(ii)(B) of E.O. 13553 for having materially assisted, sponsored, or provided financial, material, or technological support for, or goods or services to or in support of, the IRANIAN MINISTRY OF INTELLIGENCE AND SECURITY, a person whose property and interest in property is blocked pursuant to E.O. 13553.

14. HEJABI, Mahdi, Iran; DOB 26 Aug 1990; POB Tehran, Iran; nationality Iran; Additional Sanctions Information—Subject to Secondary Sanctions; Gender Male; Passport R46314475 (Iran) (individual) [IRAN-HR] (Linked To: IRANIAN MINISTRY OF INTELLIGENCE AND SECURITY).

Designated pursuant to section 1(a)(ii)(B) of E.O. 13553 for having materially assisted, sponsored, or provided financial, material, or technological support for, or goods or services to or in support of, the IRANIAN MINISTRY OF INTELLIGENCE AND SECURITY, a person whose property and interest in property is blocked pursuant to E.O. 13553.

15. IRANAGH, Gholamreza Radmard (a.k.a. RADMARD, Gholamreza), Iran; DOB 25 Jan 1984; POB Tabriz, Iran; nationality Iran; Additional Sanctions Information—Subject to Secondary Sanctions; Gender Male; Passport F35337357 (Iran) (individual) [IRAN-HR] (Linked To: IRANIAN MINISTRY OF INTELLIGENCE AND SECURITY).

Designated pursuant to section 1(a)(ii)(B) of E.O. 13553 for having materially assisted, sponsored, or provided financial, material, or technological support for, or goods or services to or in support of, the IRANIAN MINISTRY OF INTELLIGENCE AND SECURITY, a person whose property and interest in property is blocked pursuant to E.O. 13553.

16. JABARI, Abolfazl, Iran; DOB 27 Mar 1992; POB Tehran, Iran; nationality Iran; Additional Sanctions Information—Subject to Secondary Sanctions; Gender Male (individual) [IRAN-HR] (Linked To: IRANIAN MINISTRY OF INTELLIGENCE AND SECURITY).

Designated pursuant to section 1(a)(ii)(B) of E.O. 13553 for having materially assisted, sponsored, or provided financial, material, or technological support for, or goods or services to or in support of, the IRANIAN MINISTRY OF INTELLIGENCE AND SECURITY, a person whose property and interest in property is blocked pursuant to E.O. 13553.

17. JAFARIBANDARABADI, Mohammadreza (a.k.a. BANDARABADI, Mohammad Reza Jafari), Iran; DOB 29 Nov 1989; POB Yazd, Iran; nationality Iran; Additional Sanctions Information—Subject to Secondary Sanctions; Gender Male; Passport M20385084 (Iran) (individual) [IRAN-HR] (Linked To: IRANIAN MINISTRY OF INTELLIGENCE AND SECURITY).

Designated pursuant to section 1(a)(ii)(B) of E.O. 13553 for having materially assisted, sponsored, or provided financial, material, or technological support for, or goods or services to or in support of, the IRANIAN MINISTRY OF INTELLIGENCE AND SECURITY, a person whose property and interest in property is blocked pursuant to E.O. 13553.

18. JALALI, Maysam (a.k.a. JALALI, Meysam), Iran; DOB 22 Mar 1987; POB Qorveh, Iran; nationality Iran; Additional Sanctions Information—Subject to Secondary Sanctions; Gender Male; Passport K45469660 (Iran) (individual) [IRAN-HR] (Linked To: IRANIAN MINISTRY OF INTELLIGENCE AND SECURITY).

Designated pursuant to section 1(a)(ii)(B) of E.O. 13553 for having materially assisted, sponsored, or provided financial, material, or technological support for, or goods or services to or in support of, the IRANIAN MINISTRY OF INTELLIGENCE AND SECURITY, a person whose property and interest in property is blocked pursuant to E.O. 13553.

19. KALAMI, Seyed Mohammad, Iran; DOB 14 Jun 1989; POB Kahnuj, Iran; nationality Iran; Additional Sanctions Information—Subject to Secondary Sanctions; Gender Male; Passport K27232571 (Iran) (individual) [IRAN-HR] (Linked To: IRANIAN MINISTRY OF INTELLIGENCE AND SECURITY).

Designated pursuant to section 1(a)(ii)(B) of E.O. 13553 for having materially assisted, sponsored, or provided financial, material, or technological support for, or goods or services to or in support of, the IRANIAN MINISTRY OF INTELLIGENCE AND SECURITY, a person whose property and interest in property is blocked pursuant to E.O. 13553.

20. KAMALI, Ali, Iran; DOB 09 Jan 1993; POB Mashhad, Iran; nationality Iran; Additional Sanctions Information—Subject to Secondary Sanctions; Gender Male; Passport F38965053 (Iran) (individual) [IRAN-HR] (Linked To: IRANIAN MINISTRY OF INTELLIGENCE AND SECURITY).

Designated pursuant to section 1(a)(ii)(B) of E.O. 13553 for having materially assisted, sponsored, or provided financial, material, or technological support for, or goods or services to or in support of, the IRANIAN MINISTRY OF INTELLIGENCE AND SECURITY, a person whose property and interest in property is blocked pursuant to E.O. 13553.

21. KANDI, Omid Moosazadeh Hamzeh (a.k.a. KANDI, Omid Mousazadeh), Iran; DOB 18 Dec 1988; POB Salmas, Iran; nationality Iran; Additional Sanctions Information—Subject to Secondary Sanctions; Gender Male (individual) [IRAN-HR] (Linked To: IRANIAN MINISTRY OF INTELLIGENCE AND SECURITY).

Designated pursuant to section 1(a)(ii)(B) of E.O. 13553 for having materially assisted, sponsored, or provided financial, material, or technological support for, or goods or services to or in support of, the IRANIAN MINISTRY OF INTELLIGENCE AND SECURITY, a person whose property and interest in property is blocked pursuant to E.O. 13553.

22. KHALILZADEH, Mohammad (a.k.a. ZADEH, Mohammed Khalil), Iran; DOB 02 Jan 1983; POB Mashhad, Iran; nationality Iran; Additional Sanctions Information—Subject to Secondary Sanctions; Gender Male; Passport L42320339 (Iran) (individual) [IRAN-HR] (Linked To: IRANIAN MINISTRY OF INTELLIGENCE AND SECURITY).

Designated pursuant to section 1(a)(ii)(B) of E.O. 13553 for having materially assisted, sponsored, or provided financial, material, or technological support for, or goods or services to or in support of, the IRANIAN MINISTRY OF INTELLIGENCE AND SECURITY, a person whose property and interest in property is blocked pursuant to E.O. 13553.

23. KHANMIRI, Amin Hosseinzadeh (a.k.a. HOSEINZADEH, Amin), Iran; DOB 19 Feb 1989; POB Azarshahr, Iran; nationality Iran; Additional Sanctions Information—Subject to Secondary Sanctions; Gender Male; Passport X20406521 (Iran) (individual) [IRAN-HR] (Linked To: IRANIAN MINISTRY OF INTELLIGENCE AND SECURITY).

Designated pursuant to section 1(a)(ii)(B) of E.O. 13553 for having materially assisted, sponsored, or provided financial, material, or technological support for, or goods or services to or in support of, the IRANIAN MINISTRY OF INTELLIGENCE AND SECURITY, a person whose property and interest in property is blocked pursuant to E.O. 13553.

24. LOTFI, Benham, Iran; DOB 20 Jan 1993; POB Marand, Iran; nationality Iran; Additional Sanctions Information—Subject to Secondary Sanctions; Gender Male (individual) [IRAN-HR] (Linked To: IRANIAN MINISTRY OF INTELLIGENCE AND SECURITY).

Designated pursuant to section 1(a)(ii)(B) of E.O. 13553 for having materially assisted, sponsored, or provided financial, material, or technological support for, or goods or services to or in support of, the IRANIAN MINISTRY OF INTELLIGENCE AND SECURITY, a person whose property and interest in property is blocked pursuant to E.O. 13553.

25. MADHI, Shahriyar, Iran; DOB 21 Mar 1993; POB Tabriz, Iran; nationality Iran; Additional Sanctions Information—Subject to Secondary Sanctions; Gender Male (individual) [IRAN-HR] (Linked To: IRANIAN MINISTRY OF INTELLIGENCE AND SECURITY).

Designated pursuant to section 1(a)(ii)(B) of E.O. 13553 for having materially assisted, sponsored, or provided financial, material, or technological support for, or goods or services to or in support of, the IRANIAN MINISTRY OF INTELLIGENCE AND SECURITY, a person whose property and interest in property is blocked pursuant to E.O. 13553.

26. MAGHSOUDI, Hassan Fazli (a.k.a. MAGHSOUDI, Hasan Fazli), Iran; DOB 21 Sep 1984; POB Nur, Iran; nationality Iran; Additional Sanctions Information—Subject to Secondary Sanctions; Gender Male; Passport Y35787473 (Iran) (individual) [IRAN-HR] (Linked To: IRANIAN MINISTRY OF INTELLIGENCE AND SECURITY).

Designated pursuant to section 1(a)(ii)(B) of E.O. 13553 for having materially assisted, sponsored, or provided financial, material, or technological support for, or goods or services to or in support of, the IRANIAN MINISTRY OF INTELLIGENCE AND SECURITY, a person whose property and interest in property is blocked pursuant to E.O. 13553.

27. MAHMOUDI, Mohammad (a.k.a. MAHMOUDI, Mohammed), Iran; DOB 14 Apr 1987; POB Khoy, Iran; nationality Iran; Additional Sanctions Information—Subject to Secondary Sanctions; Gender Male (individual) [IRAN-HR] (Linked To: IRANIAN MINISTRY OF INTELLIGENCE AND SECURITY).

Designated pursuant to section 1(a)(ii)(B) of E.O. 13553 for having materially assisted, sponsored, or provided financial, material, or technological support for, or goods or services to or in support of, the IRANIAN MINISTRY OF INTELLIGENCE AND SECURITY, a person whose property and interest in property is blocked pursuant to E.O. 13553.

28. MEHRI, Mahmoud (a.k.a. MAHMOOD, Mehri), Iran; DOB 19 Sep 1985; POB Ahar, Iran; nationality Iran; Additional Sanctions Information—Subject to Secondary Sanctions; Gender Male; Passport F49959213 (Iran) (individual) [IRAN-HR] (Linked To: IRANIAN MINISTRY OF INTELLIGENCE AND SECURITY).

Designated pursuant to section 1(a)(ii)(B) of E.O. 13553 for having materially assisted, sponsored, or provided financial, material, or technological support for, or goods or services to or in support of, the IRANIAN MINISTRY OF INTELLIGENCE AND SECURITY, a person whose property and interest in property is blocked pursuant to E.O. 13553.

29. MEHRI, Mohammad Hassan, Iran; DOB 04 Jul 1964; POB Ahar, Iran; nationality Iran; Additional Sanctions Information—Subject to Secondary Sanctions; Gender Male; Passport F24371256 (Iran) (individual) [IRAN-HR] (Linked To: IRANIAN MINISTRY OF INTELLIGENCE AND SECURITY).

Designated pursuant to section 1(a)(ii)(B) of E.O. 13553 for having materially assisted, sponsored, or provided financial, material, or technological support for, or goods or services to or in support of, the IRANIAN MINISTRY OF INTELLIGENCE AND SECURITY, a person whose property and interest in property is blocked pursuant to E.O. 13553.

30. MEHRI, Mahdi, Iran; DOB 08 Jun 1990; POB Ahar, Iran; nationality Iran; Additional Sanctions Information—Subject to Secondary Sanctions; Gender Male (individual) [IRAN-HR] (Linked To: IRANIAN MINISTRY OF INTELLIGENCE AND SECURITY).

Designated pursuant to section 1(a)(ii)(B) of E.O. 13553 for having materially assisted, sponsored, or provided financial, material, or technological support for, or goods or services to or in support of, the IRANIAN MINISTRY OF INTELLIGENCE AND SECURITY, a person whose property and interest in property is blocked pursuant to E.O. 13553.

31. MIRZAEI, Mohammad Ali, Iran; DOB 18 Jul 1995; POB Tehran, Iran; nationality Iran; Additional Sanctions Information—Subject to Secondary Sanctions; Gender Male; Passport I42045850 (Iran) (individual) [IRAN-HR] (Linked To: IRANIAN MINISTRY OF INTELLIGENCE AND SECURITY).

Designated pursuant to section 1(a)(ii)(B) of E.O. 13553 for having materially assisted, sponsored, or provided financial, material, or technological support for, or goods or services to or in support of, the IRANIAN MINISTRY OF INTELLIGENCE AND SECURITY, a person whose property and interest in property is blocked pursuant to E.O. 13553.

32. MIRZAEI, Reza, Iran; DOB 15 May 1992; POB Ahar, Iran; nationality Iran; Additional Sanctions Information—Subject to Secondary Sanctions; Gender Male; Passport F22578558 (Iran) (individual) [IRAN-HR] (Linked To: IRANIAN MINISTRY OF INTELLIGENCE AND SECURITY).

Designated pursuant to section 1(a)(ii)(B) of E.O. 13553 for having materially assisted, sponsored, or provided financial, material, or technological support for, or goods or services to or in support of, the IRANIAN MINISTRY OF INTELLIGENCE AND SECURITY, a person whose property and interest in property is blocked pursuant to E.O. 13553.

33. MOGHADAM, Mohsen Matloub (a.k.a. MATLOUB, Mohsen), Iran; DOB 02 Oct 1990; POB Tehran, Iran; nationality Iran; Additional Sanctions Information—Subject to Secondary Sanctions; Gender Male; Passport V25762563 (Iran) (individual) [IRAN-HR] (Linked To: IRANIAN MINISTRY OF INTELLIGENCE AND SECURITY).

Designated pursuant to section 1(a)(ii)(B) of E.O. 13553 for having materially assisted, sponsored, or provided financial, material, or technological support for, or goods or services to or in support of, the IRANIAN MINISTRY OF INTELLIGENCE AND SECURITY, a person whose property and interest in property is blocked pursuant to E.O. 13553.

34. MOSTAFAEI, Saeed (a.k.a. MOSTAFAIE, Saeed), Iran; DOB 16 Sep 1986; POB Khoy, Iran; nationality Iran; Additional Sanctions Information—Subject to Secondary Sanctions; Gender Male; Passport P39417799 (Iran) (individual) [IRAN-HR] (Linked To: IRANIAN MINISTRY OF INTELLIGENCE AND SECURITY).

Designated pursuant to section 1(a)(ii)(B) of E.O. 13553 for having materially assisted, sponsored, or provided financial, material, or technological support for, or goods or services to or in support of, the IRANIAN MINISTRY OF INTELLIGENCE AND SECURITY, a person whose property and interest in property is blocked pursuant to E.O. 13553.

35. MOSTAFANEJAD, Vali (a.k.a. NEJAD, Vali Mostafa), Iran; DOB 21 Sep 1981; POB Khoy, Iran; nationality Iran; Additional Sanctions Information—Subject to Secondary Sanctions; Gender Male; Passport N17419612 (Iran) (individual) [IRAN-HR] (Linked To: IRANIAN MINISTRY OF INTELLIGENCE AND SECURITY).

Designated pursuant to section 1(a)(ii)(B) of E.O. 13553 for having materially assisted, sponsored, or provided financial, material, or technological support for, or goods or services to or in support of, the IRANIAN MINISTRY OF INTELLIGENCE AND SECURITY, a person whose property and interest in property is blocked pursuant to E.O. 13553.

36. NAFTCHI, Mohsen Raeesi (a.k.a. NAFCHI, Mohsen Raeesi), Iran; DOB 16 Feb 1988; POB Tehran, Iran; nationality Iran; Additional Sanctions Information—Subject to Secondary Sanctions; Gender Male; Passport P18702755 (Iran) (individual) [IRAN-HR] (Linked To: IRANIAN MINISTRY OF INTELLIGENCE AND SECURITY).

Designated pursuant to section 1(a)(ii)(B) of E.O. 13553 for having materially assisted, sponsored, or provided financial, material, or technological support for, or goods or services to or in support of, the IRANIAN MINISTRY OF INTELLIGENCE AND SECURITY, a person whose property and interest in property is blocked pursuant to E.O. 13553.

37. NAZARIKOLEHJOUB, Hossein (a.k.a. NAZARI, Hossein), Iran; DOB 21 Mar 1990; POB Aleshtar, Iran; nationality Iran; Additional Sanctions Information—Subject to Secondary Sanctions; Gender Male; Passport W48073580 (Iran) (individual) [IRAN-HR] (Linked To: IRANIAN MINISTRY OF INTELLIGENCE AND SECURITY).

Designated pursuant to section 1(a)(ii)(B) of E.O. 13553 for having materially assisted, sponsored, or provided financial, material, or technological support for, or goods or services to or in support of, the IRANIAN MINISTRY OF INTELLIGENCE AND SECURITY, a person whose property and interest in property is blocked pursuant to E.O. 13553.

38. NOORI, Mohsen, Iran; DOB 12 Oct 1990; POB Tehran, Iran; nationality Iran; Additional Sanctions Information—Subject to Secondary Sanctions; Gender Male; Passport V29398072 (Iran) (individual) [IRAN-HR] (Linked To: IRANIAN MINISTRY OF INTELLIGENCE AND SECURITY).

Designated pursuant to section 1(a)(ii)(B) of E.O. 13553 for having materially assisted, sponsored, or provided financial, material, or technological support for, or goods or services to or in support of, the IRANIAN MINISTRY OF INTELLIGENCE AND SECURITY, a person whose property and interest in property is blocked pursuant to E.O. 13553.

39. OSTADAKBARI, Alireza, Iran; DOB 23 Apr 1988; POB Delijan, Iran; nationality Iran; Additional Sanctions Information—Subject to Secondary Sanctions; Gender Male; Passport Z30367974 (Iran) (individual) [IRAN-HR] (Linked To: IRANIAN MINISTRY OF INTELLIGENCE AND SECURITY).

Designated pursuant to section 1(a)(ii)(B) of E.O. 13553 for having materially assisted, sponsored, or provided financial, material, or technological support for, or goods or services to or in support of, the IRANIAN MINISTRY OF INTELLIGENCE AND SECURITY, a person whose property and interest in property is blocked pursuant to E.O. 13553.

40. RASOULI, Mohammadbagher (a.k.a. RASOULI, Mohammad Bagher), Iran; DOB 15 Mar 1982; POB Tabriz, Iran; nationality Iran; Additional Sanctions Information—Subject to Secondary Sanctions; Gender Male; Passport Z23183660 (Iran) (individual) [IRAN-HR] (Linked To: IRANIAN MINISTRY OF INTELLIGENCE AND SECURITY).

Designated pursuant to section 1(a)(ii)(B) of E.O. 13553 for having materially assisted, sponsored, or provided financial, material, or technological support for, or goods or services to or in support of, the IRANIAN MINISTRY OF INTELLIGENCE AND SECURITY, a person whose property and interest in property is blocked pursuant to E.O. 13553.

41. SAFARI, Amirhossein (a.k.a. SAFARI, Amir Hossein), Iran; DOB 08 Aug 1992; POB Tehran, Iran; nationality Iran; Additional Sanctions Information—Subject to Secondary Sanctions; Gender Male; Passport A39679672 (Iran) (individual) [IRAN-HR] (Linked To: IRANIAN MINISTRY OF INTELLIGENCE AND SECURITY).

Designated pursuant to section 1(a)(ii)(B) of E.O. 13553 for having materially assisted, sponsored, or provided financial, material, or technological support for, or goods or services to or in support of, the IRANIAN MINISTRY OF INTELLIGENCE AND SECURITY, a person whose property and interest in property is blocked pursuant to E.O. 13553.

42. SEDAGHATI, Mostafa (a.k.a. SEDAGHAT, Mostafa), Iran; DOB 12 Jan 1996; POB Tehran, Iran; nationality Iran; Additional Sanctions Information—Subject to Secondary Sanctions; Gender Male; Passport N50040242 (Iran) (individual) [IRAN-HR] (Linked To: IRANIAN MINISTRY OF INTELLIGENCE AND SECURITY).

Designated pursuant to section 1(a)(ii)(B) of E.O. 13553 for having materially assisted, sponsored, or provided financial, material, or technological support for, or goods or services to or in support of, the IRANIAN MINISTRY OF INTELLIGENCE AND SECURITY, a person whose property and interest in property is blocked pursuant to E.O. 13553.

43. TAHERISHABAN, Javad, Iran; DOB 09 Dec 1990; POB Razan, Iran; nationality Iran; Additional Sanctions Information—Subject to Secondary Sanctions; Gender Male (individual) [IRAN-HR] (Linked To: IRANIAN MINISTRY OF INTELLIGENCE AND SECURITY).

Designated pursuant to section 1(a)(ii)(B) of E.O. 13553 for having materially assisted, sponsored, or provided financial, material, or technological support for, or goods or services to or in support of, the IRANIAN MINISTRY OF INTELLIGENCE AND SECURITY, a person whose property and interest in property is blocked pursuant to E.O. 13553.

44. TAVANA, Ali Akbar Rezaei, Iran; DOB 23 Oct 1975; POB Tehran, Iran; nationality Iran; Additional Sanctions Information—Subject to Secondary Sanctions; Gender Male; Passport F19865800 (Iran) (individual) [IRAN-HR] (Linked To: IRANIAN MINISTRY OF INTELLIGENCE AND SECURITY).

Designated pursuant to section 1(a)(ii)(B) of E.O. 13553 for having materially assisted, sponsored, or provided financial, material, or technological support for, or goods or services to or in support of, the IRANIAN MINISTRY OF INTELLIGENCE AND SECURITY, a person whose property and interest in property is blocked pursuant to E.O. 13553.

45. ZADEH, Salar Mahmoud, Iran; DOB 24 Nov 1990; POB Khoy, Iran; nationality Iran; Additional Sanctions Information—Subject to Secondary Sanctions; Gender Male (individual) [IRAN-HR] (Linked To: IRANIAN MINISTRY OF INTELLIGENCE AND SECURITY).

Designated pursuant to section 1(a)(ii)(B) of E.O. 13553 for having materially assisted, sponsored, or provided financial, material, or technological support for, or goods or services to or in support of, the IRANIAN MINISTRY OF INTELLIGENCE AND SECURITY, a person whose property and interest in property is blocked pursuant to E.O. 13553.

Entities

1. ADVANCED PERSISTENT THREAT 39 (a.k.a. APT39; a.k.a. CADELSPY; a.k.a. CHAFER; a.k.a. ITG07; a.k.a. REMEXI), Iran; Additional Sanctions Information—Subject to Secondary Sanctions [IRAN-HR] (Linked To: IRANIAN MINISTRY OF INTELLIGENCE AND SECURITY).

Designated pursuant to section 1(a)(ii)(C) of E.O. 13553 for to being owned or controlled by the IRANIAN MINISTRY OF INTELLIGENCE AND SECURITY, a person whose property and interest in property is blocked pursuant to E.O. 13553.

2. RANA INTELLIGENCE COMPUTING COMPANY (a.k.a. RANA INSTITUTE), Iran; Additional Sanctions Information—Subject to Secondary Sanctions [IRAN-HR] (Linked To: IRANIAN MINISTRY OF INTELLIGENCE AND SECURITY).

Designated pursuant to section 1(a)(ii)(C) of E.O. 13553 for to being owned or controlled by the IRANIAN MINISTRY OF INTELLIGENCE AND SECURITY, a person whose property and interest in property is blocked pursuant to E.O. 13553.

Dated: September 17, 2020.
Andrea Gacki,
Director, Office of Foreign Assets Control, U.S. Department of Treasury.

[FR Doc. 2020-20888 Filed 9-21-20; 8:45 am]

BILLING CODE 4810-AL-P